NUCLEAR REGULATORY COMMISSION

[NRC-2013-0124]

Strategies and Guidance To Address Loss of Large Areas of the Plant Due to Explosions and Fires

AGENCY: Nuclear Regulatory Commission.

ACTION: Standard review plan-final section revision; issuance.

SUMMARY: The U.S. Nuclear Regulatory Commission (NRC) is issuing a final revision to the following section of NUREG-0800, “Standard Review Plan for the Review of Safety Analysis Reports for Nuclear Power Plants: LWR Edition”: Section 19.4, “Strategies and Guidance to Address Loss of Large Areas of the Plant due to Explosions and Fires.”

DATES: The effective date of this Standard Review Plan (SRP) update is August 7, 2015.

ADDRESSES: Please refer to Docket ID NRC-2013-0124 when contacting the NRC about the availability of information regarding this document. You may access publicly-available information related to this document using any of the following methods:

• Federal Rulemaking Web site: Go to http://www.regulations.gov and search for Docket ID NRC-2013-0124. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final revision for SRP Section 19.4, “Strategies and Guidance to Address Loss of Large Areas of the Plant due to Explosions and Fires” is available under ADAMS Accession No. ML13316B202.

• NRC's PDR: You may examine and purchase copies of public documents at the NRC's PDR, Room O1-F21, One White Flint North, 11555 Rockville Pike, Rockville, Maryland 20852.

• The NRC posts its issued staff guidance on the NRC's external Web page (http://www.nrc.gov/reading-rm/doc-collections/nuregs/staff/sr0800/).

FOR FURTHER INFORMATION CONTACT: Mark Notich, Office of New Reactors, U.S. Nuclear Regulatory Commission, Washington, DC 20555 0001; telephone: 301-415-3053, email: Mark.Notich@nrc.gov or Nishka Devaser, telephone: 301-415-5196, email: Nishka.Devaser@nrc.gov Office of New Reactors, U.S. Nuclear Regulatory Commission, Washington, DC 20555-0001.

SUPPLEMENTARY INFORMATION:

I. Background

On June 11, 2013 (78 FR 35072), the NRC published for public comment the initial issuance of SRP Section 19.4, “Strategies and Guidance to Address Loss of Large Areas of the Plant Due to Explosions and Fires.” This section has been developed to assist NRC staff with the review of applications for certain construction permits, operating licenses, license amendments, certain standard design certifications, and combined licenses under parts 50 and 52 of Title 10 of the Code of Federal Regulations (10 CFR). It also informs new reactor applicants and other affected entities of SRP guidance regarding an acceptable method by which staff performs its review of the subject of loss of large areas of the plant due to explosions and fires.

The NRC staff made several changes to the final revision of the subject guidance since issuance of the proposed revision. The staff clarified its expectations with Nuclear Energy Institute (NEI) 06-12, “B.5.b Phase 2 & 3 Submittal Guideline,” in the SRP Acceptance Criteria subsection of the guidance. Additionally, some content previously seen in the proposed revision under Appendix A, “Experience Gained from Implementation of Temporary Instruction 2515/171, Verification of Site Specific Implementation of B.5.b Phase 2 & 3 Mitigating Strategies at Currently Licensed Power Reactor Sites and Related Staff Positions,” was integrated into the Areas of Review and SRP Acceptance Criteria subsections. The remainder of the content from the proposed Appendix A was removed from the final guidance. Finally, the staff updated the SRP section's list of review interfaces to include additional interfacing SRP sections.

The NRC staff received comment submissions on the proposed revision. Public comments are documented alongside the NRC staff's respective response in ADAMS under Accession No. ML13295A535. A redline strikeout comparing the proposed draft and final revisions can be found in ADAMS under Accession No. ML13316B153.

Revision to this SRP section will supercede the staff guidance presented in Interim Staff Guidance DC/COL-ISG-016, “Compliance with 10 CFR 50.54(hh)(2) and 10 CFR 52.80(d), Loss of Large Areas of the Plant due to Explosions or Fires from a Beyond-Design Basis Event.” As a result, the NRC staff will be retiring DC/COL-ISG-016 in a subsequent Federal Register notice.

II. Backfitting and Issue Finality

Issuance of this final SRP section does not constitute backfitting as defined in 10 CFR 50.109 (the Backfit Rule) and is not otherwise inconsistent with the issue finality provisions in 10 CFR part 52. The NRC staff's position is based upon the following considerations:

1. The SRP positions do not constitute backfitting, inasmuch as the SRP is internal guidance directed at the NRC staff with respect to their regulatory responsibilities.

The SRP provides guidance to the staff on how to review an application for NRC regulatory approval in the form of licensing. Changes in internal staff guidance are not matters for which either nuclear power plant applicants or licensees are protected under either the Backfit Rule or the issue finality provisions of 10 CFR part 52.

2. Backfitting and issue finality—with certain exceptions discussed below—do not protect current or future applicants.

Applicants and potential applicants are not, with certain exceptions, protected by either the Backfit Rule or any issue finality provisions under 10 CFR part 52. This is because neither the Backfit Rule nor the issue finality provisions were intended to apply to every NRC action that substantially changes the expectations of current and future applicants.

The exceptions to the general principle are applicable whenever an applicant references a 10 CFR part 52 license (e.g., an early site permit) and/or NRC regulatory approval (e.g., a design certification rule) with specified issue finality provisions. The staff does not currently intend to impose the positions represented in this SRP section in a manner that is inconsistent with any issue finality provisions of 10 CFR part 52. If in the future the NRC staff does indeed intend to impose positions inconsistent with these issue finality provisions, the NRC staff must address the regulatory criteria for avoiding issue finality.

3. The NRC staff has no intention to impose the SRP positions on existing nuclear power plant licenses or regulatory approvals either now or in the future (absent a voluntary request for change from the licensee, holder of a regulatory approval, or a design certification applicant).

The staff does not intend to impose or apply the positions described in the SRP section to existing (already issued) licenses (e.g., operating licenses and combined licenses) and regulatory approvals—in this case, design certifications. Hence, the issuance of this SRP guidance—even if considered guidance that is within the purview of the issue finality provisions in 10 CFR part 52—need not be evaluated as if it were a backfit or as being inconsistent with issue finality provisions. If, in the future, the staff seeks to impose a position in the SRP on holders of already issued licenses in a manner that does not provide issue finality as described in the applicable issue finality provision, then the staff must make the showing as set forth in the Backfit Rule, or address the criteria for avoiding issue finality as described applicable issue finality provision, as applicable.

III. Congressional Review Act

This action is a rule as defined in the Congressional Review Act (5 U.S.C. 801-808). However, the Office of Management and Budget has not found it to be a major rule as defined in the Congressional Review Act.

Dated at Rockville, Maryland, this 25th day of June, 2015.
For the Nuclear Regulatory Commission.
Lawrence Burkhart,
Acting Chief, New Reactor Rulemaking and Guidance Branch, Division of Advanced Reactors and Rulemaking, Office of New Reactors.

[FR Doc. 2015-16736 Filed 7-7-15; 8:45 am]

BILLING CODE 7590-01-P